SMALL BUSINESS ADMINISTRATION

[Declaration of Disaster #3559]

Commonwealth of Puerto Rico; Amendment #1

In accordance with a notice received from the Department of Homeland Security—Federal Emergency Management Agency, effective November 24, 2003, the above numbered declaration is hereby amended to include the municipalities of Arroyo, Canovanas, Fajardo, Loiza, Naguabo, Toa Baja and Yabucoa as disaster areas due to damages caused by severe storms, flooding, mudslides and landslides beginning on November 10, 2003 and continuing.

In addition, applications for economic injury loans from small businesses located in the contiguous municipalities of Bayamon, Carolina, Catano, Dorado, Humacao, Juncos and Toa Alta may be filed until the specified date at the previously designated location. All other municipalities contiguous to the above named primary municipalities have been previously declared.

All other information remains the same, i.e., the deadline for filing applications for physical damage is January 20, 2004, and for economic injury the deadline is August 23, 2004.

(Catalog of Federal Domestic Assistance Program Nos. 59002 and 59008)
Dated: November 28, 2003.
Herbert L. Mitchell,
Associate Administrator for Disaster Assistance.

[FR Doc. 03-30097 Filed 12-2-03; 8:45 am]

BILLING CODE 8025-01-P